FEDERAL ELECTION COMMISSION

Sunshine Act Meeting

AGENCY: Federal Election Commission.

Federal Register CITATION OF PREVIOUS ANNOUNCEMENT 77 FR 33458 (June 6, 2012).

DATE & TIME: Thursday, June 7, 2012 at 10:00 a.m.

PLACE: 999 E Street NW., Washington, DC (ninth floor).

STATUS: This meeting will be open to the public.

CHANGES IN THE MEETING The following item has been added to the agenda:

2012 Meeting Dates (Second Half).

Individuals who plan to attend and require special assistance, such as sign language interpretation or other reasonable accommodations, should contact Shawn Woodhead Werth, Secretary, at (202) 694-1040, at least 72 hours prior to the meeting date.

PERSON TO CONTACT FOR INFORMATION: Judith Ingram, Press Officer; Telephone: (202) 694-1220.

Shawn Woodhead Werth,
Secretary of the Commission.

[FR Doc. 2012-14179 Filed 6-7-12; 11:15 am]

BILLING CODE 6715-01-P